DEPARTMENT OF COMMERCE

National Oceanic and Atmospheric Administration

[I.D. 082906A]

Atlantic Highly Migratory Species (HMS); Atlantic Shark Management Measures

AGENCY: National Marine Fisheries Service (NMFS), National Oceanic and Atmospheric Administration (NOAA), Commerce.

ACTION: Notice of availability; notice of public scoping meetings.

SUMMARY: NMFS published a notice of intent (NOI) to initiate an amendment to the Consolidated Highly Migratory Species (HMS) Fishery Management Plan (FMP) on November 7, 2006. Today's notice announces the availability of an issues and options presentation describing potential measures for inclusion in the forthcoming Amendment 2 to the Consolidated HMS FMP and provides details for seven scoping meetings to discuss and collect comments on the issues described in the presentation. Comments received on the issues and options presentation, in the scoping meetings, and on the NOI will assist NMFS in developing Amendment 2 to the Consolidated HMS FMP. These scoping meetings will be combined with public hearings to gather comment on a proposed rule to utilize the North Atlantic swordfish quota. Those hearings are announced today in an separate Federal Register document.

DATES: Public scoping meetings will be held in January of 2007. These meetings will be combined with public hearings being held for a proposed rule to enable a more thorough utilization of the U.S. North Atlantic swordfish quota. For specific dates and times, see SUPPLEMENTARY INFORMATION.

As published on November 7, 2006 (71 FR 65086), written comments on the issues and options presentation and the NOI must be received no later than February 5, 2007.

ADDRESSES: Scoping meetings will be held in Madeira Beach, FL; Ft. Pierce, FL; Manteo, NC; Houma, LA; Gloucester, MA; Destin, FL; and, Manahawkin, NJ. For details, see SUPPLEMENTARY INFORMATION.

As published on November 7, 2006 (71 FR 65086), written comments on the issues and options presentation and the NOI should be sent to Michael Clark, Highly Migratory Species Management Division by any of the following methods:

• E-mail: SF1.082906A@noaa.gov. Include in the subject line the following identifier: “I.D. 082906A”.

• Written: 1315 East-West Highway, Silver Spring, MD 20910. Please mark the outside of the envelope “Scoping Comments on Amendment 2 to HMS FMP.”

• Fax: (301) 713-1917.

For a copy of the stock assessments, please contact Michael Clark or Karyl Brewster-Geisz at (301) 713-2347.

FOR FURTHER INFORMATION CONTACT: Michael Clark at (301) 713-2347 or Jackie Wilson at (404) 806-7622.

SUPPLEMENTARY INFORMATION: The Atlantic shark fisheries are managed under the authority of the Magnuson-Stevens Fishery Conservation and Management Act. The HMS FMP is implemented by regulations at 50 CFR part 635.

On November 7, 2006 (71 FR 65086), NMFS published a NOI that summarized the recent stock assessments conducted for large coastal, blacktip, sandbar, porbeagle, and dusky sharks. The NOI also described NMFS' determination as to the status of these stocks based on the assessments. As a result of these assessments, NMFS needs to amend current shark management measures via an FMP amendment and anticipates completing this amendment and any related documents by January 1, 2008. The comment period on the NOI and the issues and options presentation ends on February 5, 2007.

Request for Comments

Seven scoping meetings will be held in January 2007 to provide the public an opportunity to comment on potential shark management measures to be included in the upcoming amendment to the Consolidated HMS FMP. These public scoping meetings will be held simultaneously with public hearings for a proposed rule to gather comments on management measures to fully utilize the North Atlantic swordfish quota. The time allotted to swordfish and shark management measures will be distributed accordingly to provide ample opportunity for the public to comment on both topics. Time may be split equally or additional time may be allotted to either shark or swordfish measures, as necessary, depending on the attendees' primary interests.

Meeting Dates, Times, and Locations

The public scoping meetings for this action will be conducted as follows:

1. Wednesday, January 17, 2007, 6-9 p.m. Northeast Regional Office, One Blackburn Drive, Gloucester, MA 01930.

2. Thursday, January 18, 2007, 6-9 p.m. City of Madeira Beach, 300 Municipal Drive, Madeira Beach, Florida 33708.

3. Thursday, January 18, 2007, 6-9 p.m. Manahawkin Public Library, 129 North Main Street, Manahawkin, NJ 08050.

4. Tuesday, January 23, 2007, 6-9 p.m. Destin Community Center, 101 Stahlman Avenue, Destin, FL 32541.

5. Thursday, January 25, 2007, 6-9 p.m. Bayou Black Recreational Center, 3688 Southdown Mandalay Road, Houma, LA 70360.

6. Tuesday, January 30, 2007, 6-9 p.m. Fort Pierce Library, 101 Melody Lane, Fort Pierce, FL 34950.

7. Wednesday, January 31, 2007, 6-9 p.m. Manteo Town Hall, 407 Budleigh Street, Manteo, NC 27954.

Scoping Meetings Code of Conduct

The public is reminded that NMFS expects participants at the scoping meetings to conduct themselves appropriately. At the beginning of each meeting, a representative of NMFS will explain the ground rules (e.g., alcohol is prohibited from the hearing room; attendees will be called to give their comments in the order in which they registered to speak; each attendee will have an equal amount of time to speak; and attendees should not interrupt one another). The NMFS representative will attempt to structure the meeting so that all attending members of the public will be able to comment, if they so choose, regardless of the controversial nature of the subject(s). Attendees are expected to respect the ground rules, and, if they do not, they will be asked to leave the meeting.

Special Accommodations

The meetings are physically accessible to people with disabilities. Requests for sign language interpretation or other auxiliary aids should be directed to Michael Clark (see FOR FURTHER INFORMATION CONTACT) at least 7 days prior to the meeting.

Dated: December 26, 2006.
Karyl K. Brewster-Geisz,
Acting Director, Office of Sustainable Fisheries, National Marine Fisheries Service.

[FR Doc. E6-22513 Filed 12-29-06; 8:45 am]

BILLING CODE 3510-22-S